DEPARTMENT OF AGRICULTURE

Office of Procurement and Property Management

Notice of Request for Comments on Extension of a Currently Approved Information Collection

AGENCY: Departmental Management, Agriculture.

ACTION: Notice and request for comments.

SUMMARY: In accordance with the Paperwork Reduction Act of 1995 (44 U.S.C. Chapter 35), this notice announces that the Department of Agriculture, Departmental Management, Office of Procurement and Property Management, is hereby requesting an extension for and a revision to a currently approved information collection, Voluntary Labeling Program for Biobased Products for Federal Biobased Products Preferred Procurement Program.

DATES: Comments on this notice must be received by March 18, 2014 to be assured of consideration.

Additional Information or Comments

Ron Buckhalt, USDA, Office of Procurement and Property Management, Room 361, Reporters Building, 300 7th St. SW., Washington, DC 20024; email: biopreferred@usda.gov; phone (202) 205-4008. You may submit comments by any of the methods listed below. All submissions received must include the agency name. Also, please identify submittals as pertaining to the “Notice on Request for Comments on Extension of a Currently Approved Information Collection.”

• Federal eRulemaking Portal: http://www.regulations.gov. Follow the instructions for submitting comments.

• Email: biopreferred@usda.gov. Include “Notice on Request for Comments on Extension of a Currently Approved Information Collection” on the subject line. Please include your name and address in your message.

• Mail/commercial/hand delivery: Mail or deliver your comments to: Ron Buckhalt, USDA, Office of Procurement and Property Management, Room 361, Reporters Building, 300 7th St. SW., Washington, DC 20024.

• Persons with disabilities who require alternative means for communication for regulatory information (Braille, large print, audiotape, etc.) should contact the USDA TARGET Center at (202)720-2600 (voice) and (202)690-0942 (TTY).

SUPPLEMENTARY INFORMATION: Title: Voluntary Labeling Program for Biobased Products for Federal Biobased Products Preferred Procurement Program.

OMB Control Number: 0503-0020.

Expiration Date of Approval: April 30, 2014.

Type of Request: Extension and revision of a currently approved information collection.

Abstract: Section 9002(h) of the Farm Security and Rural Investment Act (FSRIA) of 2002, as amended by the Food, Conservation, and Energy Act (FCEA) of 2008, requires the Secretary of Agriculture to implement a voluntary labeling program that would enable qualifying biobased products to be labeled with a “USDA Certified Biobased Product” label. USDA subsequently published the terms and conditions for voluntary use of the label. These terms and conditions can be found in the Code of Federal Regulations (CFR) at 7 CFR part 3202. To implement the statutory requirements of FSRIA, USDA will gather relevant product information on biobased products for which manufacturers and vendors seek certification to use the label. The information collected will enable USDA to evaluate the qualifications of biobased products to carry the USDA label and to ensure that the label is used properly and in accordance with the requirements specified in 7 CFR part 3202. To the extent feasible, the information sought by USDA can be transmitted electronically using the Web site http://www.biopreferred.gov. If electronic transmission of information is not practical for some applicants, USDA will provide technical assistance to support the transmission of information to USDA.

Estimate of Burden: Public reporting burden for this collection of information is estimated to average 3 hours per response.

Respondents: Manufacturers and vendors who wish to apply the “USDA Certified Biobased Product” label to their biobased products.

Estimated Annual Number of Respondents: 300.

Estimated Number of Responses per Respondent: 4. One response is required for each product for which certification is sought and the average number of products each respondent is expected to apply for certification for is four.

Estimated Total Annual Burden on Respondents: 3,600 hours, one time only. Manufacturers and vendors are only required to respond once for each product they wish to label. Therefore, there is no ongoing annual paperwork burden on respondents unless they wish to apply to label additional products.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including the use of appropriate automated, electronic, mechanical, or other technological collection techniques or other forms of information technology. Comments may be sent to Ron Buckhalt, USDA, Office of Procurement and Property Management, Room 361, Reporters Building, 300 7th St. SW., Washington, DC 20024. All comments received will be available for public inspection during regular business hours at the same address.

All responses to this notice will be summarized and included in the request for OMB approval. All comments will become a matter of public record.

Dated: November 26, 2013.
Gregory L. Parham,
Assistant Secretary for Administration, U.S. Department of Agriculture.

[FR Doc. 2014-00828 Filed 1-16-14; 8:45 am]

BILLING CODE P